DEPARTMENT OF ENERGY

Environmental Management Site-Specific Advisory Board, Paducah

AGENCY: Office of Environmental Management, Department of Energy.

ACTION: Notice of open virtual meeting.

SUMMARY: This notice announces an online virtual meeting of the Environmental Management Site-Specific Advisory Board (EM SSAB), Paducah. The Federal Advisory Committee Act requires that public notice of this online virtual meeting be announced in the Federal Register.

DATES: Thursday, March 18, 2021; 5:30 p.m.-7:00 p.m.

ADDRESSES: Online Virtual Meeting. To attend, please send an email to the Federal Coordinator, Robert Smith, at robert.smith@pppo.gov by no later than 5:00 p.m. CST on Monday, March 15, 2021.

To Submit Public Comments: Public comments will be accepted via email prior to and after the meeting. Comments received by no later than 5:00 p.m. CST on Monday, March 15, 2021, will be read aloud during the virtual meeting. Comments will also be accepted after the meeting, by no later than 5:00 p.m. CST on Friday, April 2, 2021. Please submit comments to robert.smith@pppo.gov.

FOR FURTHER INFORMATION CONTACT: Robert Smith, Federal Coordinator, by Phone: (270) 441-6821 or Email: robert.smith@pppo.gov.

SUPPLEMENTARY INFORMATION: Purpose of the Board: The purpose of the Board is to make recommendations to DOE-EM and site management in the areas of environmental restoration, waste management, and related activities.

Tentative Agenda:

• Call to Order, Introductions, Review of Agenda

• Administrative Issues

• Public Comments (15 minutes)

• Adjourn

Public Participation: The online virtual meeting is open to the public. Written statements may be filed with the Board either before or after the meeting as there will not be opportunities for live public comment during this online virtual meeting. The Deputy Designated Federal Officer is empowered to conduct the meeting in a fashion that will facilitate the orderly conduct of business. Individuals wishing to submit public comments should email them as directed above.

Minutes: Minutes will be available by writing or calling Robert Smith, Federal Coordinator, U.S. Department of Energy, 5507 Hobbs Rd., Kevil, KY 42053; Phone: (270) 441-6821. Minutes will also be available at the following website: http://www.energy.gov/pppo/listings/meeting-materials.

Signed in Washington, DC, on February 16, 2021.
LaTanya Butler,
Deputy Committee Management Officer.

[FR Doc. 2021-03436 Filed 2-19-21; 8:45 am]

BILLING CODE 6450-01-P